DEPARTMENT OF ENERGY

Western Area Power Administration

Salt Lake City Area Integrated Projects and Colorado River Storage Project—Rate Order No. WAPA-206

AGENCY: Western Area Power Administration, DOE.

ACTION: Notice of rate order concerning firm power fixed rates and transmission services, ancillary services, sale of surplus products, and joint dispatch transmission service formula rates.

SUMMARY: The provisional fixed rates for the Salt Lake City Area Integrated Projects (SLCA/IP) firm power service and the formula rates for the Colorado River Storage Project (CRSP) transmission services, ancillary services, sale of surplus products, and joint dispatch transmission service have been confirmed, approved, and placed into effect on an interim basis. The firm power rates under SLCA/IP Firm Power Rate Schedule SLIP-F12 expire December 31, 2023. Western Area Power Administration's (WAPA) CRSP Management Center (CRSP MC) is renewing all SLCA/IP and CRSP rates under one Federal Register notice (FRN), making all rates effective for the same period. These new rates replace existing firm power, transmission, ancillary services, sale of surplus products, and joint dispatch transmission service rates under Rate Orders No. WAPA-190, WAPA-195, and WAPA-199.

DATES: The provisional rates under Rate Schedules SLIP-F13, SP-NW6, SP-PTP10, SP-NFT9, SP-UU3, SP-EI6, SP-SSR6, SP-SS2, and SP-NFJDT are effective on the first day of the first full billing period beginning on or after January 1, 2024, and will remain in effect through December 31, 2028, pending confirmation and approval by the Federal Energy Regulatory Commission (FERC) on a final basis or until superseded. Pursuant to 10 CFR 903.21(b), the WAPA Administrator has set the effective date to align with the expiration of the existing rate.

FOR FURTHER INFORMATION CONTACT: Rodney Bailey, CRSP Manager, Colorado River Storage Project Management Center, Western Area Power Administration, 1800 South Rio Grande Avenue, Montrose, CO 81401, 970-252-3000, or email: CRSPMC-rate-adj@wapa.gov; or Tamala Gheller, Rates Manager, Colorado River Storage Project Management Center, Western Area Power Administration, 970-240-6545, or email: CRSPMC-rate-adj@wapa.gov.

SUPPLEMENTARY INFORMATION: On May 12, 2022, FERC approved and confirmed Rate Schedule SLIP-F12 for Firm Power Service under Rate Order No. WAPA-199 on a final basis through December 31, 2023.¹ On March 18, 2022, FERC approved and confirmed Rate Schedule SP-NFJDT for Joint Dispatch Transmission Service under Rate Order No. WAPA-195 on a final basis through September 30, 2024.² On December 17, 2020, FERC approved and confirmed the following rate schedules under Rate Order No. WAPA-190 on a final basis through September 30, 2025: ³ SLIP-F11 for Firm Power Service (superseded by SLIP-F12 under WAPA-199), SP-NW5 for Network Integration Transmission Service, SP-PTP9 for Firm Point-to-Point Transmission Service, SP-NFT8 for Non-Firm Point-to-Point Transmission Service, SP-UU2 for Unreserved Use Penalties, SP-E15 for Energy and Generation Imbalance, SP-SSR5 for Operating Reserves—Spinning and Supplemental Reserve Services, and SP-SS1 for Sale of Surplus Products.

¹ Order Confirming and Approving Rate Schedule on a Final Basis, FERC Docket No. EF 22-1-000 (179 FERC ¶ 62,085 (2022)).

² Order Confirming and Approving Rate Schedule on a Final Basis, FERC Docket No. EF 21-7-000 (178 FERC ¶ 62,154 (2022)).

³ Order Confirming and Approving Rate Schedules on a Final Basis, FERC Docket No. EF 20-7-000 (173 FERC ¶ 61,230 (2020)).

On June 22, 2023, Western Area Power Administration (WAPA) published a Federal Register notice (Proposal FRN) (88 FR 40813) proposing new 5-year rates for firm power service, transmission services, ancillary services, sale of surplus products, and joint dispatch transmission service. The Proposal FRN initiated a 90-day public consultation and comment period and set forth the date and location of the public information and the public comment forums. The firm power rate is a fixed rate. The transmission services, ancillary services, surplus products, and joint dispatch rates continue the formula-based methodology that includes an annual update to the financial and load data in the applicable rate formulas. The inputs into the formulas and resulting charges under the rates will be annually updated on October 1.

On August 28, 2023, CRSP MC sent email notice to extend the Comment and Consultation Period for Proposed WAPA-206 from September 1, 2023, through October 3, 2023. The intent of this extension was to provide interested parties additional time to review and provide comments related to the results of the Bureau of Reclamation's August 24-month study data, along with other aspects of the rate proposal made available by WAPA during the original comment period.

Legal Authority

By Delegation Order No. S1-DEL-RATES-2016, effective November 19, 2016, the Secretary of Energy delegated: (1) the authority to develop power and transmission rates to the WAPA Administrator; (2) the authority to confirm, approve, and place such rates into effect on an interim basis to the Deputy Secretary of Energy; and (3) the authority to confirm, approve, and place into effect on a final basis, or to remand or disapprove such rates, to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This rate action is issued under Redelegation Order No. S3-DEL-WAPA1-2023 and Department of Energy procedures for public participation in rate adjustments set forth at 10 CFR part 903.⁴

⁴ 50 FR 37835 (Sept. 18, 1985) and 84 FR 5347 (Feb. 21, 2019).

Following DOE's review of CRSP MC's proposal, Rate Order No. WAPA-206, which provides the fixed rates for the SLCA/IP firm power service and the formula rates for the CRSP transmission services, ancillary services, sale of surplus products, and joint dispatch transmission service, is hereby confirmed, approved, and placed into effect on an interim basis. By this order, I may be placing the rates into effect in less than 30 days to meet contractual obligations and avoid financial difficulties. WAPA will submit Rate Order No. WAPA-206 to FERC for confirmation and approval on a final basis.

DEPARTMENT OF ENERGY

ADMINISTRATOR, WESTERN AREA POWER ADMINISTRATION

In the Matter of: Western Area Power Administration Colorado River Storage Project Management Center Rate Adjustment for the Salt Lake City Area Integrated Projects Firm Power Rates and the Colorado River Storage Project Transmission Services, Ancillary Services, Sale of Surplus Products, and Joint Dispatch Transmission Service

Rate Order No. WAPA-206

Order Confirming, Approving, and Placing the Fixed Firm Power Rates for the Salt Lake City Area Integrated Projects and the Formula Rates for Transmission Services, Ancillary Services, Sale of Surplus Products, and Joint Dispatch Transmission Service for the Colorado River Storage Project Into Effect on an Interim Basis

The rates in Rate Order No. WAPA-206 are established following section 302 of the Department of Energy (DOE) Organization Act (42 U.S.C. 7152).⁵

⁵ This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)) and other acts that specifically apply to the projects involved.

By Delegation Order No. S1-DEL-RATES-2016, effective November 19, 2016, the Secretary of Energy delegated: (1) the authority to develop power and transmission rates to the Western Area Power Administration (WAPA) Administrator; (2) the authority to confirm, approve, and place such rates into effect on an interim basis to the Deputy Secretary of Energy; and (3) the authority to confirm, approve, and place into effect on a final basis, or to remand or disapprove such rates, to the Federal Energy Regulatory Commission (FERC). By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This rate action is issued under Redelegation Order No. S3-DEL-WAPA1-2023 and DOE procedures for public participation in rate adjustments set forth at 10 CFR part 903.⁶

⁶ 50 FR 37835 (Sept. 18, 1985) and 84 FR 5347 (Feb. 21, 2019).

Acronyms, Terms, and Definitions

As used in this Rate Order, the following acronyms, terms, and definitions apply:

Basin Fund: Upper Colorado River Basin Fund—a revolving fund that operates without annual appropriations.

Capacity: The electric capability of a generator, transformer, transmission circuit, or other equipment. It is expressed in kilowatts (kW).

Capacity Rate: The rate which sets forth the charges for capacity. It is expressed in $/kWmonth and applied to each kW delivered to each Customer.

CRC: Cost Recovery Charge—an additional surcharge on all SHP energy deliveries, which are long-term energy sales provided under WAPA's SLCA/IP firm electric service contracts.

CRCM: The North American Electric Reliability Corporation (NERC)-registered Joint Dispatch Transmission Service Provider for WAPA's Colorado River Storage Project Management Center (CRSP MC) transmission facilities included in the Transmission System within the Western Energy Imbalance Service (WEIS) Market Footprint.

CROD: Contract Rate of Delivery—the maximum amount of capacity made available to a Preference Customer for a period specified under a contract.

CRMMS: Colorado River Mid-term Modeling System—one of two river system models developed and maintained by Reclamation to support operational decision-making and planning for the Colorado River Basin.

CRSS: Colorado River Simulation System—is one of two river system models developed and maintained by the Bureau of Reclamation to support operational decision-making and planning for the Colorado River Basin.

Customer: Firm electric service customer(s) contractually receiving SLCA/IP power and energy.

Customer Rate Brochure: A document prepared for public distribution explaining the rationale and background for the information contained in the Proposed FRN and in this rate order.

CY: Calendar Year. When used in the CRC it is the 12-month period (January through December) the CRC is in effect.

DSA: Deliverable Sales Amount—marketable generation level, above which WAPA will forgo Purchased Power.

Energy Rate: The rate which sets forth the charge for energy. It is expressed in mills/kWh and applied to each kWh delivered to each Customer.

Firm: A type of product or service available at the time requested by the Customer.

FRN: Federal Register Notice—a document published in the Federal Register.

FY: WAPA's fiscal year, October 1 to September 30.

GWh: Gigawatthour—the electrical unit of energy that equals 1 billion watthours or 1 million kWh.

Integrated Projects: The resources and revenue requirements of the Collbran, Dolores, Rio Grande, and Seedskadee projects blended with the CRSP to create the SLCA/IP resources and rate.

kW: Kilowatt—the electrical unit of capacity that equals 1,000 watts.

kWh: Kilowatt-hour—the electrical unit of energy that equals 1,000 watts in 1 hour.

kWmonth: Kilowatt-month—the electrical unit of the monthly amount of capacity.

Load: The amount of electric power or energy delivered or required at any specified point(s) on a system.

Load Factor: The percentage of actual kWh delivered on a system in a designated period of time, as opposed to the total possible kWh that could be delivered on a system in a designated period time.

Mill: A monetary denomination of the United States that equals one tenth of a cent or one thousandth of a dollar.

MAF: Million Acre-Feet—the number of gallons of water required to cover 1 million acres, 1 foot in depth.

Mills/kWh: Mills per kilowatthour—the unit of charge for energy.

MOA: Memorandum of Agreement concerning the Basin Fund for Upper Division States to share their apportionment with each other through FY 2037. This agreement reduces the impact on the CRSP Firm Power rate by eliminating the collection of power revenue beyond the amount needed to repay the costs for participating irrigation projects.

MW: Megawatt—the electrical unit of capacity that equals 1 million watts or 1,000 kilowatts.

MWh: One million watt-hours of electric energy. A unit of electrical energy which equals 1 megawatt of power used for 1 hour.

NEPA: National Environmental Policy Act of 1969, as amended.

New Rate Trigger: Under a New Rate Trigger, CRSP-MC would reassess an implemented CRC when the new rate goes into effect to determine if the implemented CRC should be superseded or terminated.

OATT: Open Access Transmission Tariff, including all schedules or attachments thereto, as amended from time to time and approved by FERC.

O&M: Operation and maintenance expenses.

Order RA 6120.2: DOE Order outlining Power Marketing Administration financial reporting and rate-making procedures.

Participating Projects: The Dolores and Seedskadee projects participating with CRSP according to the CRSP Act 1956.

Pinch Point: The year in the PRS that requires the greatest amount of revenue.

Power: Capacity and energy.

Project Use: Power used to operate SLCA/IP and CRSP facilities under Reclamation Law.

Proposed Rate: A rate that has been recommended by WAPA.

Provisional Rate: A rate which has been confirmed, approved, and placed into effect on an interim basis by the Secretary or his/her designee.

Power Repayment Study (PRS): Defined in DOE Order RA 6120.2 as a study portraying the annual repayment of power production and transmission costs of a power system through the application of revenues over the repayment period of the power system. The study shows, among other items, estimated revenues and expenses, year by year, over the remainder of the power system's repayment period (based upon conditions prevailing over the cost evaluation period), the estimated amount of Federal investment amortized during each year, and the total estimated amount of Federal investment remaining to be amortized.

Ratesetting PRS: The SLIP PRS used for the rate adjustment proposal.

Reclamation Law: A series of Federal laws. Viewed as a whole, these laws create the originating framework under which WAPA markets power.

Revenue Requirement: The revenue required by the PRS to recover O&M expenses, purchased power and transmission service expenses, interest, deferred expenses, and repayment of Federal investments, or other assigned costs.

SHP: Sustainable Hydro Power (long-term SLCA/IP hydro capacity with energy).

SLIP PRS: CRSP PRS that includes the Collbran, Dolores, Rio Grande, and Seedskadee revenue requirements.

Supporting Documentation: A book of data that supports this rate action and associated rates brochure.

Work Plan: An estimate of costs that are expected to become the Congressional Budget for WAPA and Reclamation. Also known as a Work Program.

WRF: Western Replacement Firming—WRF is optional purchased power to firm to customers' Sustainable Hydropower (SHP) allocation levels, the cost of which is passed through to firm power customers under a separate charge for those customers electing WRF.

Effective Date

The Provisional Rate Schedules SLIP-F13, SP-NW6, SP-PTP10, SP-NFT9, SP-UU3, SP-EI6, SP-SSR6, SP-SS2, and SP-NFJDT will take effect on the first day of the first full billing period beginning on or after January 1, 2024, and will remain in effect through December 31, 2028, pending approval by FERC on a final basis or until superseded.

Public Notice and Comment

CRSP MC followed the Procedures for Public Participation in Power and Transmission Rate Adjustments and Extensions, 10 CFR part 903, in developing these rates. CRSP MC took the following steps to involve interested parties in the rate process:

1. On June 22, 2023, a Federal Register notice (88 FR 40813) (Proposal FRN) announced the proposed rates and launched a 71-day public consultation and comment period, set to end on September 1, 2023. The original public consultation and comment period was shorter than 90 days, in accordance with 10 CFR 903.14(a). The CRSP MC shortened the comment period to less than 90 days for good cause. There was a delay in processing the Proposal FRN resulting from the unexpected loss of key rates personnel. Decreasing the comment period timeframe was deemed necessary to implement the new rate effective January 1, 2024.

2. On June 22, 2023, CRSP MC notified all Customers and interested parties of the proposed rates and provided a copy of the Proposal FRN and the link to the WAPA-206 rate action site at: www.wapa.gov/about-wapa/regions/crsp-2/rates/rate-order-206 (website).

3. On July 19, 2023, CRSP MC held a Public Information Forum (PIF) in Salt Lake City, Utah. The PIF was held both in-house, as well as virtually. CRSP MC's representatives explained the proposed rates, answered questions, and gave notice that additional information was made available in the Customer Rate Brochure.

4. On August 15, 2023, CRSP MC held a virtual public comment forum to provide an opportunity for customers and other interested parties to comment for the record.

5. During the consultation and comment period, which ended on October 3, 2023, CRSP MC received four oral comments (two at the August 15, 2023, and two at the September 19, 2023, public comment forums) and eight written sets of comments. CRSP MC posted an updated Rate Brochure and Supporting Documents to the website on September 19, 2023. The other comments and CRSP MC's responses are addressed below.

6. On August 18, 2023, CRSP MC held a webinar on purchased power data sources and calculations.

7. On August 28, 2023, CRSP MC notified customers and interested parties via email, extending the consultation and comment period from September 1, 2023, to October 3, 2023. The comments received during the extended comment period and CRSP MC's responses are addressed below. CRSP MC posted the comments to the website on October 12, 2023. All comments have been considered in the preparation of this Rate Order.

Oral comments were received from the following organization:

Colorado River Energy Distributors Association (CREDA)

Arizona Electric Power Cooperative (AEPCO)

Written comments were received on behalf of the following organizations during the original and extended comment periods:

Arizona Electric Power Cooperative (AEPCO)

Colorado River Energy Distributors Association (CREDA)

Electrical District No. 4 of Pinal County (ED4)

Electrical District No. 7 of Maricopa County (ED7)

Irrigation & Electrical Districts Association of Arizona (IEDA)

Maricopa Water District (MWD)

Navajo Tribal Utility Authority (NTUA)

Wyoming Municipal Power Agency (WMPA)

Power Repayment Study—Firm Power Service Rate Discussion

CRSP MC prepares PRSs each FY to determine if revenues will be sufficient to repay, within the required time, all costs assigned to the SLCA/IP. Repayment criteria are based on applicable laws and legislation as well as policies including DOE Order RA 6120.2. Under the existing rate methodology, rates for firm power service are designed to recover an annual revenue requirement that includes power investment repayment, aid to irrigation repayment, interest, purchase power, O&M, and other expenses within the allowable period. To meet the Cost Recovery Criteria outlined in DOE Order RA 6120.2, the CRSP MC developed a rate adjustment to demonstrate sufficient revenues will be collected under the Provisional Rates to meet future obligations. The revenue requirement for SLCA/IP firm power service decreased slightly, while the energy and capacity rates are set to remain the same, as indicated in Table 1:

Table 1—Comparison of Revenue Requirements and Rates
Firm power service | Existing requirements under SLIP-F12 (December 1, 2021) | Provisional requirements under SLIP-F13 (January 1, 2024) | Percent change
Revenue Requirement (million $) | $181,197 | $180,239 | −0.5
Energy Rate (mills/kWh) | 12.36 | 12.36 | 0.0
Capacity Rate ($/kWmonth) | 5.25 | 5.25 | 0.0

Statement of Revenue and Related Expenses

Table 2 provides a comparison of the average annual expense data for the SLCA/IP firm power service revenue requirement through the rate-setting period.

Table 2—Annual Revenue Requirements and Firm Power Rates Comparison Table
| Existing rate, SLIP-F12 ($1,000) | Provisional rate, SLIP-F13 ($1,000) | Difference ($1,000)
Rate Setting Period | 2022-2045 | 2024-2045 |
Revenue Distribution:
Expenses:
O&M | $103,095 | $111,548 | $8,453
Purchase Power | $833 | $1,136 | $303
Transmission | $8,984 | $7,000 | ($1,984)
Integrated Projects requirements | $7,043 | $7,501 | $458
Interest | $6,207 | $11,152 | $4,945
Other | $13,547 | $13,508 | ($39)
Total Expenses | $139,709 | $151,845 | $12,136
Principal Payments:
Capitalized Expenses (deficits) | $838 | $0 | ($838)
Replacements | $29,581 | $13,702 | ($15,879)
Original Project and Additions | $1,846 | $936 | ($910)
Irrigation | $9,223 | $13,756 | $4,533
Total Principal Payments | $41,488 | $28,394 | ($13,094)
Annual Revenue Requirement | $181,197 | $180,239 | ($958)
Composite Rate | 30.51 | 31.38 | 2.85%
Energy Rate (mills/kWh) | 12.36 | 12.36 | 0.00%
Capacity Rate ($/kWmonth) | 5.25 | 5.25 | 0.00%

Any purchased power expense required to supplement hydropower deliveries up to contractual levels will be passed through to Customers under a separate charge, WRF, which would be in addition to the rate for hydropower deliveries. Any Customer not receiving WRF will not be charged the purchased power charge and would receive its proportionate amount of the DSA capacity and energy from WAPA each month.

SLCA/IP Firm Power Rate

The revenue requirement for Rate Schedule SLIP-F13 is based on FY 2022 financial data, WAPA and Reclamation's FY 2025 Work Plans, and Reclamation's August 2023 24-Month Study (24-month Study) and the April 2023 CRSS traces.

For the first two years of the effective rate period, FY 2024 and FY 2025, CRSP MC is basing sales in the rate on forecasted generation from Reclamation's August 2023 24-month Study and is basing sales for the last three years of the effective rate period, FY 2026 through FY 2028, on forecasted generation from Reclamation's April 2023 CRSS Traces. Additionally, Rate Schedule SLIP-F13 includes actions CRSP MC will take should Lake Powell's water level drop below the level at which power can be generated.

CRSP MC will not automatically purchase firming power to SHP levels. For those Customers who elect, CRSP MC will purchase WRF power as a pass-through cost, at market rates, up to SHP levels. CRSP MC will purchase power to firm to the forecasted generation level, referred to as the DSA. CRSP MC will continue to use the DSA methodology established in Rate Order No. WAPA-199 to address drought conditions in the southwestern United States and volatile purchased power costs. The DSA will be updated quarterly as shown in Table 3. Customers will have at least 14 days to affirmatively select WRF for each quarter. Quarterly notices provide flexibility in responding to changes in hydrology and will not impact the rates. Customers can elect the full quarter or specific months within the quarter.

Table 3—Deliverable Sales Amount Quarterly Updates to Customers
Quarter | 24-Month study | Customer notification (estimated) | Start date
Q2 Jan-Mar | November | November 20 | January 1.
Q3 Apr-Jun | February | February 20 | April 1.
Q4 Jul-Sep | May | May 20 | July 1.
Q1 Oct-Dec | August | August 20 | October 1.

Deliverable Sales Amount

Under the DSA methodology, sales are limited to projected generation, and CRSP MC will make firming purchases up to the forecasted DSA level. FY 2022 and FY 2023 costs for operational expenses necessary to meet DSA have been included in the rate. Outyear DSA energy projections are based on Reclamation's August 2023 24-month study (for FY 2024 and FY 2025) and Reclamation's April 2023 CRMMS study through the end of the rate setting period (for FY2026, FY2027, and FY2028). CRSP MC will continue to offer the WRF product. WRF is optional purchased power to firm to customers' Sustainable Hydropower (SHP) allocation levels, the cost of which is passed through to firm power customers under a separate charge for those customers electing WRF. Both DSA and WRF will continue to be updated quarterly using the applicable 24-month study from Reclamation. WRF will continue to be billed as it is requested to match cost collection with cost occurrence.

Any customer electing not to receive its share of the purchased power costs through WRF will not be charged for WRF. These customers will receive a proportionate amount of capacity and energy from CRSP MC each month under the DSA, charged at the proposed firm power rate, reflecting projected hydropower generation levels.

Cost Recovery Charge

CRSP MC maintains the ability to implement a CRC, if necessary. The CRC is a mechanism to adequately recover and maintain a sufficient balance in the Basin Fund in the event projected expenses significantly exceed projected revenue estimates. The Basin Fund is a revolving fund and operates without annual appropriations. The CRC is an additional surcharge on all SHP energy deliveries, which are long-term energy sales provided under WAPA's SLCA/IP firm electric service contracts. The CRC may be implemented when, among other things, the Basin Fund's cash balance is at risk due to low hydropower generation, high prices for firming power, or emergency capitalized investment funding. The CRC is based only on Basin Fund cash analysis and is independent of the SLCA/IP PRS calculations.

CRSP Transmission Services

In accordance with WAPA's OATT, CRSP MC offers Network Integration Transmission Service, Firm, Non-Firm Point-to-Point, and Joint Dispatch Transmission Services (JDTS). These services include the transmission of energy to points of delivery on the CRSP interconnected high-voltage system, which is comprised of transmission lines, substations, and related facilities. The transmission rates include the cost for Scheduling, System Control, and Dispatch Service. The CRSP MC is proposing no change to the formula rates associated with the CRSP Transmission Services; only to make the effective dates align with the SLCA/IP firm power rate time period. The Provisional Rates are as described in the respective Rate Schedules and apply to transmission-only sales.

Network Integration Transmission Service, Firm, and Non-Firm Point-to-Point Transmission Services, Formula Rates SP-NW6 (Network), SP-PTP10 (Firm) and SP-NFT9 (Non-Firm)

The Provisional Rates are as described in the Rate Schedules and apply to transmission-only sales. The cost of transmission service for WAPA's SLCA/IP long-term, firm electric service will continue to be included in the SLCA/IP firm power rate.

Joint Dispatch Transmission Service, Formula Rate SP-NFJDT

Rate Schedule SP-NFJDT is used when CRCM is participating in the WEIS market. JDTS customers shall compensate the CRSP Transmission Service Provider for JDTS commensurate with the receipt or delivery of energy dispatched for the JDTS Customer pursuant to the WEIS Tariff under the formula rate described herein.

Unreserved Use Penalties, Formula Rate SP-UU3

Unreserved Use occurs when an eligible customer uses transmission service that it has not reserved, or a transmission customer uses transmission service in excess of its reserved capacity. Unreserved Use may also include a customer's failure to curtail transmission when requested. The Transmission Customer shall compensate the CRSP Transmission Service Provider each month for any unreserved use of the transmission system under the applicable transmission service rates as outlined herein.

Ancillary Services

Energy Imbalance (EI) and Generator Imbalance (GI) Services, Formula Rate SP-EI6

No changes to the rate schedule for energy imbalance and generator imbalance under proposed Rate Schedule SP-EI6. EI/GI Services are provided through the Western Area Colorado Missouri (WACM) Balancing Authority under Rate Schedules L-AS4 and L-AS9, or as superseded.

Spinning and Supplemental Reserves Services, Formula Rate SP-SSR6

No changes to the rate schedule for spinning and supplemental reserves services under proposed Rate Schedule SP-SSR6. The transmission customer serving loads within the transmission provider's balancing authority must acquire Spinning and Supplemental Reserve services from CRSP, from a third party, or by self-supply.

Sale of Surplus Products, Formula Rate SP-SS2

No changes to the rate schedule for sale of surplus products under proposed Rate Schedule SP-SS2. The charge for each product will be determined at the time of the sale based on market rates, plus administrative costs. The customer will be responsible for acquiring transmission service necessary to deliver the product(s), for which a separate charge may be incurred.

Comments

WAPA received 41 separate oral and/or written comments during the public consultation and comment period. The comments expressed have been paraphrased and/or combined, where appropriate, without compromising the meaning of the comments.

Comments on Firm Power Rates

A. Comment: Commentors recommended CRSP MC implement a 2-year Firm Power rate instead of the proposed 5-year rate, due to concerns with instability of hydrological conditions and potential developing market situations.

Response: CRSP MC is implementing a 5-year rate to help with long term rate stability and based on established business processes will continue to annually reassess rate adequacy versus changes to budgets, hydrological conditions, and any other rate affecting factors. If CRSP MC identifies factors prompting an update to the rate, CRSP MC will initiate a public process to implement a new rate.

B. Comment: A commentor expressed support for CRSP MC's goal to maintain the rate the same as currently in effect per WAPA-199.

Response: CRSP MC appreciates the feedback.

Comment on Transmission

A. Comment: A commentor asked that if customers are only getting DSA levels, with little to no firming, why does CRSP MC forecast transmission demand used to develop the CRSP transmission rate in excess of reasonably anticipated levels of Sustainable Hydroelectric Power (“SHP”), DSA, and the CROD, over portions of the forecast period thus restricting the transmission capacity from being offered to others to enable renewable generators to replace aging coal plants; plus, this over statement of reservations increases the costs to the SLCA/IP power rates.

Response: The CRSP MC has, for well over a decade, held the current amount of point-to-point transmission capacity. CRSP MC reasonably projects this amount of capacity will continue to be needed within the rate-making window. Although DSA levels reflect projected generation, they remain uncertain due to changes in water releases. Firming purchases are often necessary even in months where hydropower generation is higher than normal; firming purchases and excess energy sales are made in shoulder hours as hydrologic operations cannot respond immediately to customer schedules. CRSP MC is unique in its use of point-to-point transmission, as opposed to network transmission service, but has found that point-to-point reservations best ensure it can successfully operate during periods when water releases and energy generation are higher than normal, such what occurred in the summer of 2003, as well as respond to outage conditions allowing rerouting of energy schedules without disruption, as well as to meet requirements of power replacement programs.

Comments on Purchased Power

A. Comment: A commentor stated that WAPA-199's primary objective was to maintain a sufficient balance in the Basin Fund, while obligating the responsibility of replacement power to the customers. With almost two years of operating experience under that paradigm, they recommended that CRSP MC continue to maintain the same rate by including $0 in the WAPA-206 purchased power line item, consistent with WAPA-199. They also noted that WAPA-206 continues the customers' responsibility of making replacement power purchases, which reduces the Basin Fund's obligations. Given the positive hydrology the Colorado River system experienced this spring, and the results of the August 2023 24-month study projections, and in support of a two-year rate, the Basin Fund should be able to support any firming purchases required for operational purposes.

Response: Due to timing-based operational needs, CRSP MC continues to experience purchased power expenses to meet customer energy needs, especially in shoulder hours of the scheduling day. CRSP MC's rate design takes into account those timing based operational purchased power expenses.

Comments on Other

A. Comment: A commentor recommended that CRSP MC and Reclamation continue to evaluate the cost assignment based on the concept of “beneficiary pays”.

Response: CRSP MC appreciates the comment. CRSP MC agrees with the concept of beneficiary pays and continues to work with Reclamation to update cost-allocations as appropriate.

B. Comment: Commentor requested that $1.624 million be removed from the “Other Expense” category based on pending legislative changes supported by the seven Colorado River Basin States, for the Colorado River Salinity Control Program, which changes center around non-reimbursable and reducing the Basin Fund's obligations.

Response: At the time Reclamation provides a final decision regarding the Salinity obligation, those assumptions, along with all annual results of operations, will be vetted through the SLIP PRS for annual rate impact assessment. If within those annual assessments we find there is a need to amend or adjust the existing rate, we will then engage customers and the public to inform them of current recommendations. As of August 2023, Reclamation shared that the proposed language to the Salinity Control Act 23639 is still undergoing discussion.

C. Comment: A commenter appreciated CRSP MC's inclusion of a rate brochure statement that the proposed rate does not “imply any interpretation of or waiver of any of the terms and conditions of the Firm Electric Service contracts.” While the rate may reflect an operational paradigm which hopefully will improve in coming years, the sanctity of the FES contracts has not changed with the rate structures originally proposed in WAPA-199 and will continue with WAPA-206.

Response: CRSP MC appreciates the comment and support.

Comments on CRSP's Proposal To Participate in the Southwest Power Pool Regional Transmission Organization

A. Comment: A commenter stated that WAPA has never provided any transparent, documented analysis of the impact of [WAPA's] decision to pursue SPP membership on CRSP contractors' costs. This void in the administrative record makes it difficult to see how WAPA expects to make the showing required by Section 3 of Delegation Order No. 204-108, 58 FR 59716, 59717 (1993) for review and confirmation of the WAPA-206 rates: that “the rates are the lowest possible to customers consistent with sound business principles.”

Response: These concerns have been addressed in a separate public process specific to this subject. On April 28, 2023, WAPA published an FRN (88 FR 26298) with a “Recommendation for the Western Area Power Administration's Rocky Mountain Region and Colorado River Storage Project Management Center to Pursue Final Negotiations Regarding Membership in the Southwest Power Pool Regional Transmission Organization, and for the Upper Great Plains Region To Expand Its Participation.” WAPA engaged in outreach to customers and other interested stakeholders via a public information meeting followed by a question-and-answer session on May 11, 2023. WAPA then held a follow up public question-and-answer session on May 25, 2023. WAPA reopened the comment period and held an additional narrowly focused information webinar and question-and-answer session on June 27, 2023. Over the course of the 75-day public comment period, WAPA received 69 written comment letters. The written comments and a summary of WAPA's responses are available on WAPA's website: www.wapa.gov/about-wapa/key-topics-2/southwest-power-pool-membership.

B. Comment: A commenter stated it has a good working relationship with WAPA that allows the customer to import and export power necessary for economic growth but is concerned that WAPA's expanded participation in SPP could jeopardize the customer's ability to continue to do so economically. The customer respectfully requests that any final agreement on WAPA's membership and expanded participation in SPP include provisions to protect the customer's existing contract rights.

Response: CRSP MC appreciates the comment. As responded to in a previous comment, WAPA published a Federal Register notice (FRN) with a “Recommendation for the Western Area Power Administration's Rocky Mountain Region and Colorado River Storage Project Management Center to Pursue Final Negotiations Regarding Membership in the Southwest Power Pool Regional Transmission Organization, and for the Upper Great Plains Region To Expand Its Participation” on April 28, 2023. Information about this process and proposal, as well as responses to customer comments and questions, and decision documents are available on WAPA's website: www.wapa.gov/about-wapa/key-topics-2/southwest-power-pool-membership.

Certification of Rates

I have certified that the Provisional Rates for SLCA/IP firm power and sales of surplus products and the CRSP transmission and ancillary services under Rate Schedules SLIP-F13, SP-NW6, SP-PTP10, SP-NFT9, SP-UU3, SP-EI6, SP-SSR6, SP-SS2, and SP-NFJDT are the lowest possible rates, consistent with sound business principles. The Provisional Rates were developed following administrative policies and applicable laws.

Availability of Information

Information used by CRSP MC to develop the Provisional Rates is available for inspection and copying at the Colorado River Storage Project Management Center, Western Area Power Administration, 1800 South Rio Grande Avenue, Montrose, CO 81401. Many of these documents are also available on WAPA's website: www.wapa.gov/about-wapa/regions/crsp-2/rates.

Ratemaking Procedure Requirements

Environmental Compliance

WAPA has determined that this action fits within the following categorical exclusion listed in appendix B to subpart D of 10 CFR 1021.410: B4.3 (Electric power marketing rate changes). Categorically excluded projects and activities do not require preparation of either an environmental impact statement or an environmental assessment.⁷ A copy of the categorical exclusion determination is available on WAPA's website: www.wapa.gov/about-wapa/regions/crsp-2/about-crsp/environment-3.

⁷ The determination was done in compliance with NEPA (42 U.S.C. 4321-4347); the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Submission to the Federal Energy Regulatory Commission

The Provisional Rates herein confirmed, approved, and placed into effect on an interim basis, together with supporting documents, will be submitted to FERC for confirmation and final approval.

Order

In view of the above, and under the authority delegated to me, I hereby confirm, approve, and place into effect, on an interim basis, Rate Order No. WAPA-206. The rates will remain in effect on an interim basis until: (1) FERC confirms and approves them on a final basis; (2) subsequent rates are confirmed and approved; or (3) such rates are superseded.

Signing Authority

This document of the Department of Energy was signed on November 20, 2023, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 21, 2023.
Treena V. Garrett,
Federal Register Liaison Officer, U.S. Department of Energy.

Rate Schedule SLIP-F13

(Supersedes Rate Schedule SLIP-F12)

UNITED STATES DEPARTMENT OF ENERGY WESTERN AREA POWER ADMINISTRATION

Colorado River Storage Project Management Center Salt Lake City Area Integrated Projects

Schedule of Rates for Firm Power Service (Approved Under Rate Order No. WAPA-206)

Effective:

The first day of the first full billing period beginning on or after January 1, 2024, and extending through December 31, 2028, or until superseded by another rate schedule, whichever occurs earlier.

Available:

In the area served by the Salt Lake City Area Integrated Projects.

Applicable:

To the wholesale power Customer for firm power service supplied through one meter at one point of delivery or as otherwise established by contract.

Character:

Alternating current, 60 hertz, three-phase, delivered and metered at the voltages and points established by contract.

Monthly Rate:

DEMAND CHARGE: $5.25 per kilowatt of billing demand.

ENERGY CHARGE: $12.36 mills per kilowatthour of use of Deliverable Sales Amount (DSA) energy.

Modification of Purchase Power:

WAPA has included an amount of expense to represent the inefficiencies of market transactions and incidental firming costs associated with DSA energy scheduling. For more significant firming expenses, WAPA will provide a pass-through cost option to purchase firming power from the DSA level up to Sustainable Hydropower (SHP) levels for requesting Customers.

Western Replacement Firming (WRF):

WRF applies to pass-through purchased power costs for energy provided between the DSA level and SHP energy allocation. WRF is an optional product. Customers must elect quarterly, and may elect specific months within the quarter, to receive WRF. The charge for this purchased power will be determined at the time of the purchase based on market rates. There are no losses or an administrative fee charged to WRF. A schedule for the quarterly updates is in the rate brochure on the rate action website: www.wapa.gov/about-wapa/regions/crsp-2/rates/rate-order-206.

Billing Demand:

The billing demand will be the greater of:

1. The highest 30-minute integrated demand measured during the month up to, but not more than, the delivery obligation under the power sales contract, or,

2. The Contract Rate of Delivery.

Billing Energy:

The billing energy will be the energy measured during the month up to, but not more than, the delivery obligation under the power sales contract.

Adjustment for Transformer Losses:

If delivery is made at transmission voltage but metered on the low-voltage side of the substation, the meter readings will be increased to compensate for transformer losses as provided in the contract.

Adjustment for Power Factor:

The Customer will be required to maintain a power factor at all points of measurement between 95 percent lagging and 95 percent leading.

Adjustment for Western Replacement Power (WRP):

Pursuant to the Customer's Firm Electric Service Contract, as amended, WAPA will bill the Customer for its proportionate share of the costs of WRP within a given time. WAPA will include in the monthly power bill the cost of the WRP, and the incremental administrative costs associated with WRP.

Adjustment for Customer Displacement Power (CDP) Administrative Charges:

WAPA will include in the Customer's regular monthly power bill the incremental administrative costs associated with CDP.

Adjustment for Minimum Power Pool:

If Lake Powell drops below “minimum power pool” and power cannot be generated, WAPA will provide 30 days' notice to the Customers prior to reducing the DSA and will work with Customers to mitigate impacts and develop alternative solutions.

Cost Recovery Charge (CRC):

To adequately recover and maintain a sufficient balance in the Basin Fund, WAPA uses a cost recovery mechanism, called a CRC. The CRC is a charge on all long-term energy sales provided under WAPA's SLCA/IP firm electric service contracts.

This charge will be, at a minimum, recalculated before July 1 of each year, and WAPA will provide notification to the Customers consistent with the procedures in 10 CFR 903. WAPA has the discretion to implement the CRC at any point throughout the year using the criteria in Table 1. The charge, if needed, will be placed into effect on the first day of the first full billing period beginning on or after the first day of the month the CRC is implemented. For the purposes of the CRC, the 12-month period of a CRC will be described as a calendar year (CY). The CRC will be calculated as follows:

Table 1—CRC Tiers
Tier | Criteria, if the Basin Fund Beginning Balance (BFBB) is: | Notification
i | Greater than $150 million, with an expected decrease to below $75 million | Annually (July).
ii | Less than $150 million but greater than $120 million, with an expected 50 percent decrease in the next CY
iii | Less than $120 million but greater than $90 million, with an expected 40 percent decrease in the next CY
iv | Less than $90 million but greater than $60 million, with an expected 25 percent decrease in the next CY | Semi-Annual (July/January).
v | Less than $60 million but greater than $40 million with an expected decrease to below $40 million in the next CY | Monthly.

CRC sample calculations, narratives, and schedules showing the dates for implementing a CRC throughout the year are located at the CRC web page at: www.wapa.gov/about-wapa/regions/crsp-2/rates/cost-recovery-charge.

Waiver Level (WL):

WAPA will establish a WL that provides WAPA the ability to reduce purchased power expenses by scheduling less energy than what is contractually required. Therefore, for those Customers who voluntarily schedule no more energy than their proportionate share of the WL, WAPA will waive the CRC for that year. After the Funds Available have been determined, the WL will be set at the sum of the energy that can be provided through hydro generation and purchased with Funds Available. The WL will not be less than the forecasted Hydro Energy.

Trigger for Water Release Criteria:

In the event that Reclamation's 24-month study projects Glen Canyon Dam water releases will drop below 8.23 million acre feet (MAF) in a water year (October through September), WAPA will recalculate the CRC to include those lower estimates of hydropower generation. WAPA, as in the yearly projection for the CRC, will give the Customers a 45-day notice to request a waiver of the CRC if they do not want to have the CRC charge added to their energy bills. This recalculation will remain in effect for the remainder of the CY.

If the annual water release volumes from Glen Canyon Dam return to 8.23 MAF or higher during the trigger implementation, a new CRC will be calculated for the next month, and the Customer will be notified.

Trigger for New Rate Criteria:

WAPA would reassess an implemented CRC when a new rate goes into effect to determine if the implemented CRC should be continued, superseded, or terminated.

Prior Year Adjustment for CRC:

Since the annual determination of the CRC is based upon estimates, an annual, prior-year adjustment (PYA) will be calculated for those who did not elect the waiver level. The PYA will be based on the 12-month period the CRC was in effect.

The Customers' PYA will be based on their prior 12-months' energy multiplied by the PYA mills/kWh to determine the dollar value that will be assessed. The Customer will be charged or credited for this dollar amount equally in the remaining months of the next 12-month billing cycle. WAPA will complete this calculation within 2 months of the end of the CRC. Therefore, if the PYA is calculated in June, the charge/credit will be spread over the remaining 9 months of the CY (July through March).

Adjustment for CRC Waiver:

Customers can choose not to take the full DSA energy supplied as determined in the attached formulas for CRC and will be billed the Energy and Capacity rates listed above, but not the CRC.

Rate Schedule SP-NW6

ATTACHMENT H to Tariff

(Supersedes Rate Schedule SP-NW5)

UNITED STATES DEPARTMENT OF ENERGY

WESTERN AREA POWER ADMINISTRATION

Colorado River Storage Project Management Center Colorado River Storage Project

Network Integration Transmission Service (Approved Under Rate Order No. WAPA-206)

Effective:

Rate Schedule SP-NW6 will be placed into effect on an interim basis on the first day of the first full billing period beginning on or after January 1, 2024, and will remain in effect until FERC confirms, approves, and places the rate schedules into effect on a final basis through December 31, 2028, or until the rate schedules are superseded.

Applicable:

The Transmission Customer will compensate the Colorado River Storage Project each month for Network Integration Transmission Service under the applicable Network Integration Transmission Service Agreement and the formula rate described herein.

Formula Rate:

A calculated Annual Transmission Revenue Requirement for Network Integration Transmission Service will go into effect every October 1 based on the above formula and updated financial and operational data. WAPA will notify the transmission customer annually of the recalculated annual Revenue Requirement on or before September 1.

Billing:

Billing determinants for the formula rate above will be as specified in the service agreement. Billing will occur monthly under the formula rate.

Adjustment for Losses:

Losses incurred for service under this rate schedule will be accounted as agreed to by the parties in accordance with the service agreement. If losses are not fully provided by a transmission customer, charges for financial compensation may apply.

Rate Schedule SP-PTP10

SCHEDULE 7 to Tariff

(Supersedes Schedule SP-PTP9)

UNITED STATES DEPARTMENT OF ENERGY

WESTERN AREA POWER ADMINISTRATION

Colorado River Storage Project Management Center Colorado River Storage Project

Firm Point-to-Point Transmission Service (Approved Under Rate Order No. WAPA-206)

Effective:

Rate Schedule SP-PTP10 will be placed into effect on an interim basis on the first day of the first full billing period beginning on or after January 1, 2024, and will remain in effect until FERC confirms, approves, and places the rate schedules into effect on a final basis through December 31, 2028, or until the rate schedules are superseded.

Applicable:

The Transmission Customer will compensate the Colorado River Storage Project each month for Reserved Capacity under the applicable Firm Point-To-Point Transmission Service Agreement and the formula rate described herein.

Formula Rate:

A recalculated rate will go into effect every October 1 based on the above formula and updated financial and operational data. WAPA will notify the transmission customer annually of the recalculated rate on or before September 1. Discounts may be offered from time to time in accordance with WAPA's Open Access Transmission Tariff.

Billing:

The formula rate above applies to the maximum amount of capacity reserved for periods ranging from 1 hour to 1 month, payable whether used or not. Billing will occur monthly.

Adjustment for Losses:

Losses incurred for service under this rate schedule will be accounted for as agreed to by the parties in accordance with the service agreement. If losses are not fully provided by a transmission customer, charges for financial compensation may apply.

Rate Schedule SP-NFT9

SCHEDULE 8 to Tariff

(Supersedes Schedule SP-NFT8)

UNITED STATES DEPARTMENT OF ENERGY

WESTERN AREA POWER ADMINISTRATION

Colorado River Storage Project Management Center Colorado River Storage Project

Non-Firm Point-to-Point Transmission Service (Approved Under Rate Order No. WAPA-206)

Effective:

Rate Schedule SP-NFT9 will be placed into effect on an interim basis on the first day of the first full billing period beginning on or after January 1, 2024, and will remain in effect until FERC confirms, approves, and places the rate schedules into effect on a final basis through December 31, 2028, or until the rate schedules are superseded.

Applicable:

The Transmission Customer will compensate the Colorado River Storage Project each month for Non-Firm, Point-to-Point Transmission Service under the applicable Non-Firm, Point-to-Point Transmission Service Agreement and the formula rate described herein.

Formula Rate:

A recalculated rate will go into effect every October 1 based on the above formula and updated financial and load data. WAPA will notify the transmission customer annually of the recalculated rate on or before September 1. Discounts may be offered from time-to-time in accordance with WAPA's Open Access Transmission Tariff.

Billing:

The formula rate above applies to the maximum amount of capacity reserved for periods ranging from 1 hour to 1 month, payable whether used or not. Billing will occur monthly.

Adjustment for Losses:

Power and energy losses incurred in connection with the transmission and delivery of power and energy under this rate schedule shall be supplied by the customer in accordance with the service contract. If losses are not fully provided by a transmission customer, charges for financial compensation may apply.

Rate Schedule SP-UU3

SCHEDULE 10 to Tariff

(Supersedes Schedule SP-UU2)

UNITED STATES DEPARTMENT OF ENERGY

WESTERN AREA POWER ADMINISTRATION

Colorado River Storage Project Management Center Colorado River Storage Project

Unreserved Use Penalties (Approved Under Rate Order No. WAPA-206)

Effective:

Rate Schedule SP-UU3 will be placed into effect on an interim basis on the first day of the first full billing period beginning on or after January 1, 2024, and will remain in effect until FERC confirms, approves, and places the rate schedules into effect on a final basis through December 31, 2028, or until the rate schedules are superseded.

Applicable:

The Transmission Customer shall compensate the Colorado River Storage Project (CRSP) each month for any unreserved use of the transmission system (Unreserved Use) under the applicable transmission service rates as outlined herein. Unreserved Use occurs when an eligible customer uses transmission service that it has not reserved or a transmission customer uses transmission service in excess of its reserved capacity. Unreserved Use may also include a customer's failure to curtail transmission when requested.

Penalty Rate:

The penalty rate for a Transmission Customer that engages in Unreserved Use is 200 percent of CRSP's approved transmission service rate for point-to-point (SP-PTP9) transmission service assessed as follows:

(i) The Unreserved Use Penalty for a single hour of Unreserved Use is based upon the rate for daily firm PTP service.

(ii) The Unreserved Use Penalty for more than one assessment for a given duration (e.g., daily) increases to the next longest duration (e.g., weekly).

(iii) The Unreserved Use Penalty for multiple instances of Unreserved Use (e.g., more than 1 hour) within a day is based on the rate for daily firm PTP service. The Unreserved Use Penalty charge for multiple instances of Unreserved Use isolated to 1 calendar week would result in a penalty based on the rate for weekly firm PTP service. The Unreserved Use Penalty charge for multiple instances of Unreserved Use during more than 1 week in a calendar month will be based on the rate for monthly firm PTP service.

A Transmission Customer that exceeds its firm reserved capacity at any point of receipt or point of delivery or an eligible customer that uses transmission service at a point of receipt or point of delivery that it has not reserved is required to pay for all ancillary services identified in WAPA's Open Access Transmission Tariff that were provided by the CRSP and associated with the Unreserved Use. The Transmission Customer will pay for ancillary services based on the amount of transmission service it used and did not reserve.

Rate:

The rate for Unreserved Use Penalties is 200 percent of WAPA's approved rate for firm point-to-point transmission service assessed as described above. Any change to the rate for Unreserved Use Penalties will be listed in a revision to this rate schedule issued under applicable Federal laws and policies and made part of the applicable service agreement.

Rate Schedule SP-EI6

SCHEDULES 4 & 9 to Tariff

(Supersedes Rate Schedule SP-EI5)

UNITED STATES DEPARTMENT OF ENERGY WESTERN AREA POWER ADMINISTRATION

Colorado River Storage Project Management Center Colorado River Storage Project

Energy and Generator Imbalance Services (Approved Under Rate Order No. WAPA-206)

Effective:

Rate Schedule SP-EI6 will be placed into effect on an interim basis on the first day of the first full billing period beginning on or after January 1, 2024, and will remain in effect until FERC confirms, approves, and places the rate schedules into effect on a final basis through December 31, 2028, or until the rate schedules are superseded.

Applicable:

To all CRSP Transmission Customers receiving this service.

Formula Rates:

Provided through the Western Area Colorado Missouri (WACM) Balancing Authority under Rate Schedules L-AS4 and L-AS9, or as superseded.

Rate Schedule SP-SSR6

SCHEDULES 5 & 6 to Tariff

(Supersedes Rate Schedule SP-SSR5)

UNITED STATES DEPARTMENT OF ENERGY WESTERN AREA POWER ADMINISTRATION

Colorado River Storage Project Management Center Colorado River Storage Project

Operating Reserves—Spinning and Supplemental Reserve Services (Approved Under Rate Order No. WAPA-206)

Effective:

Rate Schedule SP-SSR5 will be placed into effect on an interim basis on the first day of the first full billing period beginning on or after January 1, 2024, and will remain in effect until FERC confirms, approves, and places the rate schedules into effect on a final basis through December 31, 2028, or until the rate schedules are superseded.

Applicable:

To all CRSP Transmission Customers receiving this service.

Formula Rate:

The Transmission Customer serving loads within the transmission provider's balancing authority must acquire Spinning and Supplemental Reserve services from CRSP, from a third party, or by self-supply.

Rate Schedule SP-SS2

(Supersedes Rate Schedule SP-SS1)

UNITED STATES DEPARTMENT OF ENERGY WESTERN AREA POWER ADMINISTRATION

Colorado River Storage Project Management Center Colorado River Storage Project

Sale of Surplus Products (Approved Under Rate Order No. WAPA-206)

Effective:

The first day of the first full billing period beginning on or after January 1, 2024, and extending through December 31, 2028, or until superseded by another rate schedule, whichever occurs earlier.

Applicable:

This Rate Schedule applies to the sale of the following Salt Lake City Area Integrated Projects (SLCA/IP) surplus energy and capacity products: energy, frequency response, regulation, and reserves. If any of the above SLCA/IP surplus products are available, SLCA/IP can make the product(s) available for sale, providing entities enter into separate agreement(s) with CRSP Marketing which will specify the terms of the sale(s).

Formula Rate:

The charge for each product will be determined at the time of the sale based on market rates, plus administrative costs. The customer will be responsible for acquiring transmission service necessary to deliver the product(s), for which a separate charge may be incurred.

Rate Schedule SP-NFJDT

SCHEDULE 8R to OATT Attachment

(Supersedes Rate Schedule SP-NFJDT dated

October 1, 2021, through September 30, 2024)

UNITED STATES DEPARTMENT OF ENERGY WESTERN AREA POWER ADMINISTRATION

Colorado River Storage Project Management Center Colorado River Storage Project

Joint Dispatch Transmission Service (Approved Under Rate Order No. WAPA-206)

Effective:

The first day of the first full billing period beginning on or after January 1, 2024, and extending through December 31, 2028, or until superseded by another rate schedule, whichever occurs earlier.

Applicable:

This rate schedule applies to the Colorado River Storage Project (CRSP) as the Transmission Service Provider (TSP) when the Colorado River Storage Project Management Center is participating in the Western Energy Imbalance Service (WEIS) Market. The Joint Dispatch Transmission Service (JDTS) Customer shall compensate the CRSP TSP for JDTS commensurate with the receipt or delivery of energy dispatched for the JDTS Customer pursuant to the WEIS Tariff under the formula rate described herein.

Formula Rate:

Hourly delivery:

On-Peak Hours: the on-peak charge $0.00/MWh

Off-Peak Hours: the off-peak charge $0.00/MWh

[FR Doc. 2023-26049 Filed 11-24-23; 8:45 am]

BILLING CODE 6450-01-P